DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Fetal Alcohol Spectrum Disorders Center for Excellence Screening and Brief Intervention Evaluation—New

Since 2001, SAMHSA's Center for Substance Abuse Prevention has been operating the SAMHSA Fetal Alcohol Spectrum Disorders (FASD) Center for Excellence. The purpose of the FASD Center is to prevent FASD and improve the treatment of FASD. The FASD Center's activities include providing training, technical assistance, and subcontracts to increase the use of effective evidence-based interventions.

The FASD Center will be integrating Screening and Brief Intervention (SBI) for pregnant women through service delivery organizations and will be evaluating the results. Seven sites will implement the SBI program operated through WIC or Healthy/Health Start. Using the protocol developed by O'Connor and Whaley, each of the participating WIC and Healthy Start programs will be screening pregnant women to identify those who are currently drinking. The SBI focuses on 10- to 15-minute sessions of counseling by a counselor who will use a scripted manual to guide the intervention. Participants in the SBI will be assessed at each visit (to monitor alcohol use), referred for additional services to support their efforts to stop drinking, and will be provided with the 10-15 minute intervention. Clients will be followed up until their 36th week of pregnancy.

At baseline, a screening tool will be administered by the WIC or Healthy/Health Start counselor to assess pregnant women at the participating sites or health care delivery programs. Women will be assessed for risk using the T-ACE or TWEAK screening instruments which have been used successfully with pregnant women. Both quantity and frequency of drinking will be assessed. In addition, basic demographic data will be collected (age, race/ethnicity, education, and marital status) at baseline by participating sites but no personal identification information will be transmitted to SAMHSA.

On a monthly basis, as clients return for their WIC or Healthy/Health Start program counseling session, follow-up data will be collected by the WIC or Healthy Start counselor. At each monthly follow-up visit, the quantity and frequency of drinking will be assessed and the client's goals for drinking will be recorded. In addition, process level variables will be assessed to understand how the program is being implemented (e.g., whether SBI was delivered; what referrals were made; which referral services were received). At the 36th week of pregnancy, the client will be asked for permission to place her record from this program into her infant's medical record (upon delivery) and quantity and frequency of drinking will be assessed.

The data collection is designed to evaluate the implementation of the proposed Screening and Brief Intervention by measuring whether abstinence from alcohol is achieved. Furthermore, the project will include process measures to assess whether and how the intervention was provided.

Estimated Annualized Burden Hours
Screening tool/activity | Number of respondents (7 Sites) | Number of responses per respondent | Average burden per response | Total burden hours per collection
Assessment/Baseline Data Collection | 3,428 | 1 | .25 | 857
Monthly Follow-up (75% of baseline × 4 months maximum) | 2,571 | 4 | .33 | 3,393
Assessment Data Collection at 36th week (75% of baseline) | 2,571 | 1 | .25 | 642
Total | 8,570 | 6 |  | 4,892

Send comments to Summer King, SAMHSA Reports Clearance Officer, Room 7-1044, One Choke Cherry Road, Rockville, MD 20857. Written comments should be received within 60 days of this notice.

Dated: October 23, 2008.
Elaine Parry,
Acting Director, Office of Program Services.

[FR Doc. E8-25898 Filed 10-29-08; 8:45 am]

BILLING CODE 4162-20-P